DEPARTMENT OF ENERGY

Federal Energy Regulatory Commission

[Project No. 13948-002]

Public Utility District No. 1 of Snohomish County; Notice of Application Tendered for Filing with the Commission and Soliciting Additional Study Requests

Take notice that the following hydroelectric application has been filed with the Commission and is available for public inspection.

a. Type of Application: Unconstructed Major Project.

b. Project No.: 13948-002.

c. Date filed: August 1, 2013.

d. Applicant: Public Utility District No. 1 of Snohomish County.

e. Name of Project: Calligan Creek Hydroelectric Project.

f. Location: On the Calligan Creek, near the Town of North Bend, King County, Washington. The proposed project would not occupy any federal lands.

g. Filed Pursuant to: Federal Power Act 16 U.S.C. 791(a)-825(r).

h. Applicant Contact: Kim D. Moore, P.E., Assistant General Manager of Generation, Water and Corporate Services; Public Utility District No. 1 of Snohomish County, 2320 California Street, P.O. Box 1107, Everett, WA 98206-1107; (425) 783-8606; KDMoore@snopud.com

i. FERC Contact: Kelly Wolcott; (202) 502-6480; Kelly.wolcott@ferc.gov

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 30, 2013.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC. 20426. The first page of any filing should include docket number P-13948-002.

m. The application is not ready for environmental analysis at this time.

n. The Calligan Creek Hydroelectric Project would consist of the following new facilities: (1) An approximately 110-foot-long, 14-foot-high diversion with a 45-foot-long, 8-foot-high spillway; (2) a 1.04-acre-foot impoundment; (3) a 200-square-foot fish screen with 0.125-inch-wide openings; (4) a 1.20-mile-long, 41-inch-diameter penstock; (5) a powerhouse containing a single 6-megawatt two-jet horizontal-shaft Pelton turbine/generator; (6) a 135-foot-long rip-rap-lined tailrace channel discharging into Calligan Creek; (7) 300 feet of access roads in addition to existing logging roads; (8) a 2.5-mile-long, 34.5-kilovolt buried transmission line connecting to the existing Black Creek Hydroelectric Project (P-6221) switching vault; and (9) appurtenant facilities. The project is estimated to provide 20.7 gigawatt-hours annually. No federal lands are included in the project.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Washington State Historic Preservation Officer (SHPO), as required by section 106 of the National Historic Preservation Act and the regulations of the Advisory Council on Historic Preservation, 36 CFR 800.4.

q. Procedural schedule: The application will be processed according to the following preliminary Hydro Licensing Schedule. Revisions to the schedule will be made as appropriate.

Issue Acceptance or Deficiency Letter (if needed)—October 2013

Request for Additional Information—October 2013

Issue Notice and Letter of Acceptance—December 2013

Issue Scoping Document 1 for comments—January 2014

Comments on Scoping Document 1—March 2014

Issue Scoping Document 2—April 2014

Issue notice of ready for environmental analysis—April 2014

Commission issues draft EA—October 2014

Comments on draft EA—November 2014

Commission issues final EA—January 2015

Dated: August 16, 2013.
Kimberly D. Bose,
Secretary.

[FR Doc. 2013-20603 Filed 8-22-13; 8:45 am]

BILLING CODE 6717-01-P